DEPARTMENT OF THE INTERIOR

National Park Service

National Register of Historic Places; Notification of Pending Nominations

Nominations for the following properties being considered for listing in the National Register were received by the National Park Service before February 10, 2001. Pursuant to § 60.13 of 36 CFR part 60 written comments concerning the significance of these properties under the National Register criteria for evaluation may be forwarded to the National Register, National Park Service, 1849 C St. NW, NC400, Washington, DC 20240. Written comments should be submitted by March 12, 2001.

Carol D. Shull,
Keeper of the National Register Of Historic Places.

ALASKA

Nome Borough-Census Area:

Swanberg Dredge, Mi. 1 Nome-Council Hwy., Nome, 01000232

COLORADO

Alamosa County:

Denver and Rio Grande Railroad Locomotive No. 169, Along Chamber Dr. within Cole Park, Alamosa, 01000230

KANSAS

Sedgwick County:

Nokomis and Navarre Apartment Buildings, 420-426 N. Topeka Ave., Wichita, 01000234

Virginia Apartment Building, 401-405 E. Third St., Wichita, 01000233

MISSOURI

Callaway County

Pitcher Store, 8513 Pitcher Rd., Fulton, 01000235

NEW JERSEY

Bergen County

Hardenburgh Avenue Bridge, Hardenburgh Avenue over the Tenakill Brook, Demarest Borough, 01000237

Salem County:

Hedge—Carpenter—Thompson Historic District, Bounded by Hedge, Thompson, South Third Sts. and Oak St. Alley, Salem City, 01000236

NEW YORK

Albany County:

Blaisdell, Fletcher, Farm Complex, Westerlo St., Coeymans, 01000246

Hook and Ladder No. 4, Delaware Ave., Albany, 01000247

Bronx County:

Casa Amadeo, Antigua Casa Henandez, 786 Prospect Ave., Bronx, 01000244

Delaware County:

Christian Church, NY 10, East Delhi, 01000250

Dundas Castle, Berry Brook Rd., Roscoe, 01000245

Greene County:

Tripp House and Store Complex, NY 81, Durham, 01000240

Kings County:

Cuyler Presbyterian Church, 358-360 Pacific St., Brooklyn, 01000253

Lewis County:

Martinsburg Town Hall, NY 26 Main St., E, Martinsburg, 01000241

New York County:

Father Francis D. Duffy Statue and Duffy Square, Triangle bounded by Broadway, Seventh Ave., W. 47th. and W. 46th St., New York, 01000243

Orange County:

Stone, Gen. John Hathorn, House, Hathorn Rd., Warwick, 01000252

Queens County:

Bohemian Hall and Park, 29-19 24th Ave., Astoria, 01000239

Rockland County:

St. Paul's United Methodist Church, S. Broadway and Division St., Nyack, 01000251

Steuben County:

District School Number Five, 9436 Dry Run Rd., Campbell, 01000242

Tioga County:

McCarty, John W., House, 118 Main St., Candor, 01000249

Ulster County:

Opus 40, Fite Rd., Saugerties, 01000238

Savage, Augusta, House and Studio, 189 Old Rte. 32, Saugerties, 01000248

NORTH CAROLINA

Watauga County:

Vardell Family Cottages Historic District, 222 Grandfather Ave, 137, 187, 209 Chestnut Circle, Blowing Rock, 01000254

TENNESSEE

Humphreys County:

Johnsonville Historic District, (Civil War Historic and Historic Archeological Resources in Tennessee MPS) Old Johnsonville Rd., Denver, 01000257

Loudon County:

Craigs Chapel AME Zion Church, (Rural African-American Churches in Tennessee MPS) Craigs Chapel Rd., Greenback, 01000256

Roane County:

Tennessee Highway Patrol Building, Jct. of Kingston Ave. and Nelson St., Rockwood, 01000255

TEXAS

Goliad County:

Goliad State Park Historic District, US 183 at San Antonio River, Goliad, 01000258

VERMONT

Franklin County:

St. Ann's Episcopal Church, (Religious Buildings, Sites and Structures in Vermont MPS) Jct. of Church and Town Sts., Richford, 01000259

VIRGINIA

Prince William County:

Quantico Marine Corps Base Historic District, Marine Corps Base Quantico, Quantico, 01000260

WEST VIRGINIA

Cabell County:

Mortimer Place Historic District, Bounded by an alley, 10th St., 12th Ave., and 11th St., Huntington, 01000266

Prichard House, 500 Twelfth, Huntington, 01000261

Fayette County:

Hughart, Dr. John, House, Off WV 41, Landisburg, 01000262

Hancock County:

Marshall House, 1008, Ridge Ave., 01000263

Hardy County:

VanMeter, Garrett, House, Off Reynolds Gap Rd., Old Fields, 01000264

Harrison County:

Quiet Dell School, Off WV 20 on Cty Rte 20/79, Mount Clare, 01000265

Reynolds Farm, Off US 19, Clarksburg, 01000269

Monongalia County:

Willey Law Offices, 178 Chancery Row, Morgantown, 01000267

Monroe County:

Maple Lawn, Cty Rte 219-23, Peterstown, 01000268

WYOMING

Natrona County:

Bishop House, 818 E. Second St., Casper, 01000270

A request for REMOVAL has been made for the following resources:

VIRGINIA

Amherst County:

Athlone, Jct. Of VA 151 and VA 674, Amherst, 92001029

Botetourt County:

Springwood Truss Bridge, VA 630 over James River, Springwood, 78003009

Brunswick County:

Bentfield, SW of Lawrenceville off US 58 and VA 656, Lawrenceville vicinity, 74002109

Loudoun County:

Exeter, E of Leesburg on Edwards Ferry Rd., Leesburg vicinity, 73002032

Lynchburg (Independent City):

Hayes Hall, Dewitt St. and Garfield Ave., Lynchburg (Independent City), 79003284

Mecklenburg County:

Moss Tobacco Factory, Main and 7th Sts., Clarksville, 79003054

Montgomery County:

Bridge over North Fork of Roanoke River, (Montgomery County MPS), S of jct. Of VA 637 and 603 over North Fork of Roanoake River, Ironto vicinity, 89001802

Montgomery White Sulphur Springs Cottage, (Montgomery County MPS), Depot and New Sts., Christiansburg, 89001884

Harrison—Hancock Hardware Company Building, (Montgomery County MPS), 24 E. Main St., Christiansburg, 89001877

Murdock, Elijah, Farm, (Montgomery County MPS), Off VA 643, 1 mi. N of US 460, Yellow Sulphur vicinity, 89001882

Nelson County:

Midway Mill, On the James River at end of VA 743, Midway Mills, 73002042

Norfolk County:

Taylor, Walter Herron, Elementary School, 1410 Claremont Ave., Norfolk vicinity, 98001067

Northampton County:

Caserta, NW of jct.of Rtes. 630 and US 13, Eastville vicinity, 70000816

Westover, VA 630, Eastville vicinity, 82004577

Page County:

Fort Rodes, NW of Luray off VA 615, Luray vicinity, 78003190

Pittsylvania County:

Oak Hill, VA863, Oak Ridge vicinity, 79003068

Pulaski County:

Harvey, Nathaniel Burwell, House, Off VA 812, Dublin vicinity, 86000250,

Richmond County:

Bladensfield, NE of Warsaw off VA 203, Warsaw vicinity, 80004219

Richmond (Independent City):

Manchester Cotton and Wool Manufacturing Co., Hull St. at Mayo's Bridge, Richmond (Independent City), 83003304

Scott-Clarke House, 9 S. 5th St., Richmond (Independent City), 72001524

Roanoke (Independent City):

First Baptist Church, 407 N. Jefferson St., NW, Roanoke (Independent City), 90001840

[FR Doc. 01-4307 Filed 2-22-01; 8:45 am]

BILLING CODE 4310-70-P